DEPARTMENT OF HOMELAND SECURITY

Coast Guard

33 CFR Part 117

[Docket No. USCG-2009-1093]

Drawbridge Operation Regulation; Intracoastal Waterway (ICW), Inside Thorofare, Ventnor City, NJ

AGENCY: Coast Guard, DHS.

ACTION: Notice of temporary deviation from regulations.

SUMMARY: The Commander, Fifth Coast Guard District, has issued a temporary deviation from the regulations governing the operation of the Dorset Avenue Bridge, at ICW mile 71.2, across Inside Thorofare, at Ventnor City. This bridge is a double-leaf bascule drawbridge. The deviation restricts the operation of the draw span to facilitate structural rehabilitation to one of the bascule leafs.

DATES: This deviation is effective from 7 a.m. on January 20, 2010 until 11 p.m. on April 17, 2010.

ADDRESSES: Documents mentioned in this preamble as being available in the docket are part of docket USCG-2009-1093 and are available online by going to http://www.regulations.gov, inserting USCG-2009-1093 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mrs. Sandra Elliott, Bridge Management Specialist, Fifth District; Coast Guard; telephone 757-398-6557, e-mail Sandra.S.Elliott@uscg.mil. If you have questions on viewing the docket, call Renee V. Wright, Program Manager, Docket Operations, telephone 202-366-9826.

SUPPLEMENTARY INFORMATION: The Dorset Avenue Bridge has a vertical clearance in the closed position of 9 feet at mean high water and 12 feet at mean low water.

A.P. Construction, Inc., on behalf of Atlantic County who owns and operates this double-leaf bascule drawbridge, has requested a temporary deviation from the current operating regulations set out in 33 CFR 117.733(g), to facilitate deck repairs.

Under this temporary deviation, the drawbridge will provide a partial opening of the lift spans for vessels. The deck repairs require immobilizing half of the draw span to single-leaf operation beginning at 7 a.m. on Wednesday, January 20, 2010, until and including 11 p.m. on Saturday, April 17, 2010.

Consequently, passage under the bridge will be limited to a 25-foot width for the duration of the project.

The single-bascule leaf not under repair will continue to open for vessels. Prior to an opening of this single-bascule leaf, a work barge occupying the channel underneath this span will also be moved. Finally, the drawbridge will open in the event of an emergency.

Bridge opening data, supplied by Atlantic County and reviewed by the U.S. Coast Guard, revealed a small amount of vessel openings of the draw span from January 2009 to April 2009. Specifically, the bridge opened for vessels 4, 11, 11, and 19 times during the months of January to April 2009, respectively. Vessels that can pass under the bridge without a full bridge opening may continue to do so at all times. Mariners requiring the full opening of the lift spans will be directed to use the Atlantic Ocean as the alternate route.

The Coast Guard will inform the users of the waterway through our Local and Broadcast Notices to Mariners of the closure periods for the bridge so that vessels can arrange their transits to minimize any impact caused by the temporary deviation.

In accordance with 33 CFR 117.35(e), the drawbridge must return to its regular operating schedule immediately at the end of the designated time period. This deviation from the operating regulations is authorized under 33 CFR 117.35.

Dated: December 18, 2009.
Waverly W. Gregory, Jr.,
Chief, Bridge Administration Branch, By direction of the Commander, Fifth Coast Guard District.

[FR Doc. 2010-434 Filed 1-12-10; 8:45 am]

BILLING CODE 9110-04-P